DEPARTMENT OF HEALTH AND HUMAN SERVICES

Administration for Children and Families

Announcement of a Single-Source Grant Award to the National Association of Councils on Developmental Disabilities in Washington, DC

AGENCY: Administration on Developmental Disabilities, ACF, HHS.

ACTION: Announcement of a Single-Source Grant Award to the National Association of Councils on Developmental Disabilities (NACDD), Washington, DC, to provide training and technical assistance to the State Councils on Developmental Disabilities.

CFDA Number: 93.631.

Statutory Authority: Pub. L. 106-402, Section 129(b).

SUMMARY: The Administration for Children and Families (ACF), Administration on Developmental Disabilities (ADD), Office of Program Support (OPS) announces the award of a single-source grant of $620,000 to the National Association of Councils on Developmental Disabilities (NACDD), located in Washington, DC. The award will support a project to provide training and technical assistance (T/TA) to the designated State Councils on Developmental Disabilities (State Councils).

The primary focus of the T/TA is to improve program performance, statutory compliance, and program outcomes across the network of State Councils. Toward this end, NACDD shall provide T/TA to the entities designated by ADD as State Councils. Under this project, it is expected that initiatives shall be identified and undertaken to support the improvement of State Council operations and performance.

DATES: September 29, 2011 to September 30, 2012.

FOR FURTHER INFORMATION CONTACT: Jennifer Johnson, Administration on Developmental Disabilities, Administration for Children and Families, U.S. Department of Health and Human Services, Aerospace Center, 370 L'Enfant Promenade, SW., 2nd Floor, Washington, DC 20447; Telephone: (202) 690-5982; Email: jennifer.johnson@acf.hhs.gov

Dated: October 21, 2011.
Sharon B. Lewis,
Commissioner, Administration on Developmental Disabilities.

[FR Doc. 2011-28134 Filed 10-28-11; 8:45 am]

BILLING CODE 4184-38-P